SURFACE TRANSPORTATION BOARD

[Docket No. FD 36162]

Soo Line Railroad Company—Trackage Rights Exemption—BNSF Railway Company

Soo Line Railroad Company (Soo Line), a Class I rail carrier, has filed a verified notice of exemption under 49 CFR 1180.2(d)(7) to renew overhead trackage rights over approximately 137 miles of rail line owned and operated by BNSF Railway Company (BNSF) between Minneapolis, Minn., and Superior, Wis. (the Line).

Soo Line states that the purpose of the transaction is to renew the overhead trackage rights agreement governing Soo Line's continued freight service between Minneapolis, Minn., and Superior, Wis. The agreement provides trackage rights to Soo Line over two separate routes from Minneapolis that converge on BNSF's Staples Subdivision. The first route is from milepost 11.4+/− on BNSF's Staples Subdivision at or near University Avenue in Minneapolis, Minn. to the connection at milepost 21.0+/− with BNSF's Hinckley Subdivision near Coon Creek, Minn. (Hinckley Subdivision milepost 136.9+/−). The second route is over the North Runner Lead from BNSF's Northtown Yard to Soo Line's Shoreham Yard at milepost 11.66+/− on BNSF's St. Paul Subdivision to the connection at milepost 16.25+/− on BNSF's Staples Subdivision and thence to the connection with BNSF's Hinckley Subdivision near Coon Creek, Minn. From there, Soo Line's trackage rights continue to the connection at Hinckley Subdivision milepost 11.8+/− with BNSF's Lakes Subdivision in Boylston, Wis. (Lakes Subdivision milepost 12.6+/−), and thence to Lakes Subdivision milepost 9.4+/− at M&J Junction in Superior, Wis., including the BNSF-owned turnout at milepost 10.44+/− to the Saunders Connecting Track. Soo Line acquired the trackage rights in its 1985 acquisition of the Chicago, Milwaukee, St. Paul and Pacific Railroad Company's assets.

According to Soo Line, the parties intend to enter into a written agreement renewing the overhead trackage rights, and a redacted copy of the draft agreement has been submitted as an exhibit with its verified notice.¹

¹ With the verified notice, Soo Line filed a motion for a protective order to protect the confidential and commercially sensitive information contained in the agreement, which Soo Line submitted under seal. That motion will be addressed in a separate decision.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

The transaction may be consummated on or after February 4, 2018, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than January 26, 2018 (at least seven days before the exemption before effective).

An original and 10 copies of all pleadings, referring to Docket No. 36162, must be filed with the Surface Transportation Board, 395 E Street SW, Washington, DC 20423-0001. In addition, one copy of each pleading must be served on W. Karl Hansen, Stinson Leonard Street LLP, 50 South Sixth St., Suite 2600, Minneapolis, MN 55402.

According to Soo Line, this action is categorically excluded from environmental review under 49 CFR 1105.6(c) and from historic reporting under 49 CFR 1105.8(b).

Board decisions and notices are available on our website at WWW.STB.GOV.

Decided: January 16, 2018.
By the Board, Scott M. Zimmerman, Acting Director, Office of Proceedings.
Jeffrey Herzig,
Clearance Clerk.

[FR Doc. 2018-00927 Filed 1-18-18; 8:45 am]

BILLING CODE 4915-01-P